DEPARTMENT OF ENERGY

Federal Energy Regulatory Commission

Combined Notice of Filings #1

Take notice that the Commission received the following electric corporate filings:

Docket Numbers: EC15-22-000.

Applicants: Mesquite Power, LLC.

Description: Mesquite Power, LLC Section 203 Application and Request for Expedited Action.

Filed Date: 11/5/14.

Accession Number: 20141105-5172.

Comments Due: 5 p.m. ET 11/26/14.

Take notice that the Commission received the following electric rate filings:

Docket Numbers: ER10-2563-003.

Applicants: Wisconsin Electric Power Company.

Description: Wisconsin Electric Power Company submits a notice of non-material change in status regarding the joint venture and potential acquisition of interest in generation facilities.

Filed Date: 11/4/14.

Accession Number: 20141104-5205.

Comments Due: 5 p.m. ET 11/25/14.

Docket Numbers: ER10-2670-008; ER14-2295-000; ER14-1699-001; ER14-1219-001; ER11-2424-012; ER10-3319-013; ER10-2678-007; ER10-2677-008; ER10-2674-008; ER10-2669-008; ER10-2636-009; ER10-2629-010; ER10-2627-009; ER10-2253-010; ER10-1975-014; ER10-1974-014; ER10-1550-009; ER10-1547-008; ER10-1546-010.

Applicants: ANP Blackstone Energy Company, LLC, ANP Bellingham Energy Company, LLC, Armstrong Power, LLC, Astoria Energy LLC, Astoria Energy II LLC, Calumet Energy Team, LLC, FirstLight Hydro Generating Company, FirstLight Power Resources Management, LLC, GDF SUEZ Energy Marketing NA, Inc., Hopewell Cogeneration Ltd Partnership, Milford Power, LLC, Mt. Tom Generating Company, LLC, Northeastern Power Company, North Jersey Energy Associates, a L.P., Pinetree Power-Tamworth, Inc., Troy Energy, LLC, Northeast Energy Associates, A Limited Partnership, Pleasants Energy, LLC, Waterbury Generation LLC.

Description: Supplement to June 2014 Triennial Filing for the GDF SUEZ Northeast MBR Sellers.

Filed Date: 11/4/14.

Accession Number: 20141104-5203.

Comments Due: 5 p.m. ET 11/25/14.

Docket Numbers: ER13-104-004.

Applicants: Florida Power & Light Company.

Description: Compliance filing per 35: FPL Order No. 1000 Further Regional Compliance Filings to be effective 1/1/2015.

Filed Date: 11/4/14.

Accession Number: 20141104-5193.

Comments Due: 5 p.m. ET 11/25/14.

Docket Numbers: ER14-1578-003.

Applicants: PacifiCorp.

Description: Compliance filing per 35: OATT EIM Compliance Filing? Unauthorized Use to be effective 11/1/2014.

Filed Date: 11/5/14.

Accession Number: 20141105-5116.

Comments Due: 5 p.m. ET 11/26/14.

Docket Numbers: ER15-323-000.

Applicants: Southern California Edison Company.

Description: § 205(d) rate filing per 35.13(a)(2)(iii): Amended GIA and Distribution Service Agmt with Kona Solar—Terra Francesco 1 to be effective 11/4/2014.

Filed Date: 11/4/14.

Accession Number: 20141104-5191.

Comments Due: 5 p.m. ET 11/25/14.

Docket Numbers: ER15-331-000.

Applicants: NorthWestern Corporation.

Description: Initial rate filing per 35.12 SA 730—Letter Agreement with WAPA-UGP re Line Clearance Project to be effective 11/6/2014.

Filed Date: 11/5/14.

Accession Number: 20141105-5023.

Comments Due: 5 p.m. ET 11/26/14.

Docket Numbers: ER15-332-000.

Applicants: The Connecticut Light and Power Company.

Description: Tariff Withdrawal per 35.15: Cancellation of Amended GenConn Localized Costs Responsibility Agreement to be effective 10/1/2014.

Filed Date: 11/5/14.

Accession Number: 20141105-5035.

Comments Due: 5 p.m. ET 11/26/14.

Docket Numbers: ER15-333-000.

Applicants: The Connecticut Light and Power Company.

Description: Tariff Withdrawal per 35.15: Cancellation of PSEG New Haven Localized Costs Responsibility Agreement to be effective 10/1/2014.

Filed Date: 11/5/14.

Accession Number: 20141105-5036.

Comments Due: 5 p.m. ET 11/26/14.

Docket Numbers: ER15-334-000.

Applicants: The Connecticut Light and Power Company.

Description: Tariff Withdrawal per 35.15: Cancellation of Town of Wallingford Localized Costs Responsibility Agreement to be effective 10/1/2014.

Filed Date: 11/5/14.

Accession Number: 20141105-5037.

Comments Due: 5 p.m. ET 11/26/14.

Docket Numbers: ER15-335-000.

Applicants: Vision Power Systems, Inc.

Description: Vision Power Systems, Inc submits notice of cancellation of its market based rate tariff, effective 10/24/14.

Filed Date: 11/3/14.

Accession Number: 20141105-0001.

Comments Due: 5 p.m. ET 11/24/14.

Docket Numbers: ER15-336-000.

Applicants: The Connecticut Light and Power Company.

Description: Tariff Withdrawal per 35.15: Cancellation of Localized Costs Responsibility Agreement CTMEEC to be effective 10/1/2014.

Filed Date: 11/5/14.

Accession Number: 20141105-5040.

Comments Due: 5 p.m. ET 11/26/14.

Docket Numbers: ER15-337-000.

Applicants: The Connecticut Light and Power Company.

Description: Tariff Withdrawal per 35.15: Cancellation of Bridgeport Energy Localized Costs Responsibility Agreement to be effective 10/1/2014.

Filed Date: 11/5/14.

Accession Number: 20141105-5044.

Comments Due: 5 p.m. ET 11/26/14.

Docket Numbers: ER15-338-000.

Applicants: Public Service Company of New Hampshire.

Description: Tariff Withdrawal per 35.15: Cancellation of GenConn Energy Localized Costs Responsibility Agreement to be effective 10/1/2014.

Filed Date: 11/5/14.

Accession Number: 20141105-5050.

Comments Due: 5 p.m. ET 11/26/14.

Docket Numbers: ER15-339-000.

Applicants: Public Service Company of New Hampshire.

Description: Tariff Withdrawal per 35.15: Cancellation of PSEG New Haven Localized Costs Responsibility Agreement to be effective 10/1/2014.

Filed Date: 11/5/14.

Accession Number: 20141105-5052.

Comments Due: 5 p.m. ET 11/26/14.

Docket Numbers: ER15-340-000.

Applicants: Public Service Company of New Hampshire.

Description: Tariff Withdrawal per 35.15: Cancellation of Amended CTMEEC Localized Costs Responsibility Agreement to be effective 10/1/2014.

Filed Date: 11/5/14.

Accession Number: 20141105-5070.

Comments Due: 5 p.m. ET 11/26/14.

Docket Numbers: ER15-341-000.

Applicants: Western Massachusetts Electric Company.

Description: Tariff Withdrawal per 35.15: Cancellation of Amended GenConn Energy Localized Costs Responsibility Agreement to be effective 10/1/2014.

Filed Date: 11/5/14.

Accession Number: 20141105-5072.

Comments Due: 5 p.m. ET 11/26/14.

Docket Numbers: ER15-342-000.

Applicants: Western Massachusetts Electric Company.

Description: Tariff Withdrawal per 35.15: Cancellation of PSEG New Haven Localized Costs Responsibility Agreement to be effective 10/1/2014.

Filed Date: 11/5/14.

Accession Number: 20141105-5081.

Comments Due: 5 p.m. ET 11/26/14.

Docket Numbers: ER15-343-000.

Applicants: PJM Interconnection, L.L.C.

Description: § 205(d) rate filing per 35.13(a)(2)(iii): Original SA No. 4011; Queue Z2-027 (ISA) and Cancellation of SA No. 3802 to be effective 10/10/2014.

Filed Date: 11/5/14.

Accession Number: 20141105-5087.

Comments Due: 5 p.m. ET 11/26/14.

Docket Numbers: ER15-344-000.

Applicants: Western Massachusetts Electric Company.

Description: Tariff Withdrawal per 35.15: Cancellation of Amended CTMEEC Localized Costs Responsibility Agreement to be effective 10/1/2014.

Filed Date: 11/5/14.

Accession Number: 20141105-5090.

Comments Due: 5 p.m. ET 11/26/14.

Docket Numbers: ER15-345-000.

Applicants: Duke Energy Progress, Inc.

Description: § 205(d) rate filing per 35.13(a)(2)(iii): PWCF 2nd Amended RS No. 184 to be effective 1/1/2013.

Filed Date: 11/5/14.

Accession Number: 20141105-5108.

Comments Due: 5 p.m. ET 11/26/14.

Docket Numbers: ER15-346-000.

Applicants: Midcontinent Independent System Operator.

Description: § 205(d) rate filing per 35.13(a)(2)(iii): 2014-11-05_SA 6502 Illinois Power-Edwards SSR Agreement August 2014 Revision to be effective 8/8/2014.

Filed Date: 11/5/14.

Accession Number: 20141105-5118.

Comments Due: 5 p.m. ET 11/26/14.

Docket Numbers: ER15-347-000.

Applicants: Northeast Utilities Service Company.

Description: Northeast Utilities Service Company submits Notice of Cancellation of Localized Costs Responsibility Agreements on behalf of The Connecticut Light and Power Company, et. al.

Filed Date: 11/5/14.

Accession Number: 20141105-5132.

Comments Due: 5 p.m. ET 11/26/14.

Docket Numbers: ER15-348-000.

Applicants: Black Hills/Colorado Electric Utility Co.

Description: Baseline eTariff Filing per 35.1: Joint Dispatch Agreement Concurrence Filing to be effective 1/1/2015.

Filed Date: 11/5/14.

Accession Number: 20141105-5183.

Comments Due: 5 p.m. ET 11/26/14.

Take notice that the Commission received the following electric reliability filings:

Docket Numbers: RR15-2-000.

Applicants: North American Electric Reliability Corporation.

Description: Informational Filing of the North American Electric Reliability Corporation regarding Implementation of the Reliability Assurance Initiative.

Filed Date: 11/3/14.

Accession Number: 20141103-5199.

Comments Due: 5 p.m. ET 12/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2014.
Nathaniel J. Davis, Sr.,
Deputy Secretary.

[FR Doc. 2014-26927 Filed 11-13-14; 8:45 am]

BILLING CODE 6717-01-P